INTERNATIONAL TRADE COMMISSION

[Investigations Nos. 731-TA-96 and 439-445 (Review)]

Industrial Nitrocellulose From Brazil, China, France,Germany, Japan, Korea, the United Kingdom, and Yugoslavia

AGENCY: United States International Trade Commission.

ACTION: Revised schedule for the subject reviews.

EFFECTIVE DATE: February 1, 2000.

FOR FURTHER INFORMATION CONTACT: John Fry (202-708-4157), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

SUPPLEMENTARY INFORMATION: Effective October 15, 1999, the Commission established a schedule for the conduct of the subject reviews (64 FR 57483, October 25, 1999). On January 19, 2000, counsel for Wolff Walsrode AG, a German producer, and Bayer Corporation, a German importer, requested a two-month extension of the schedule on the assumption that a decision may be made within that time frame by Hercules, the sole U.S. producer, as to whether it will close or sell its production facility. The Commission has determined to exercise its authority to extend the review period by up to 90 days pursuant to 19 U.S.C. § 1675 (c)(5)(B), and is hereby revising its schedule.

The Commission's new schedule for the reviews is as follows: the prehearing staff report will be placed in the nonpublic record on May 18, 2000; the deadline for filing prehearing briefs is May 30, 2000; requests to appear at the hearing must be filed with the Secretary to the Commission not later than May 31, 2000; the prehearing conference will be held at the U.S. International Trade Commission Building at 9:30 a.m. on June 5, 2000; the hearing will be held at the U.S. International Trade Commission Building at 9:30 a.m. on June 8, 2000; the deadline for filing posthearing briefs is June 19, 2000; the Commission will make its final release of information on July 13, 2000; and final party comments are due on July 17, 2000.

For further information concerning these reviews, see the Commission's notice cited above and the Commission's Rules of Practice and Procedure, part 201, subparts A through E (19 CFR part 201), and part 207, subparts A and F (19 CFR part 207).

Authority: These reviews are being conducted under authority of title VII of the Tariff Act of 1930; this notice is published pursuant to section 207.62 of the Commission's rules.

Issued: February 1, 2000.
By order of the Commission.
Donna R. Koehnke,
Secretary.

[FR Doc. 00-2697 Filed 2-4-00; 8:45 am]

BILLING CODE 7020-02-U